NATIONAL ARCHIVES AND RECORDS ADMINISTRATION

[NARA-2015-042]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by June 17, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

Fax: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending:

1. Department of the Army, Agency-wide (DAA-AU-2015-0012, 1 item, 1 temporary item). Master files of an electronic information system that contains records relating to materiel management.

2. Department of the Army, Agency-wide (DAA-AU-2015-0015, 1 item, 1 temporary item). Master files of an electronic information system used to track housing allowances for service members overseas.

3. Department of the Army, Agency-wide (DAA-AU-2015-0020, 1 item, 1 temporary item). Master files of an electronic information system used to manage maintenance and supply operations at the unit level.

4. Department of the Army, Agency-wide (DAA-AU-2015-0025, 1 item, 1 temporary item). Master files of an electronic information system that contains data used by military leaders to identify and address potential management problems.

5. Department of Health and Human Services, Office of Global Affairs (DAA-0468-2014-0005, 5 items, 2 temporary items). Records related to international partnerships to include resident requirement waiver files, country inquiry files, copies of responses, and related working files and background materials. Proposed for permanent retention are significant project files, agreements, and decisional policies.

6. Department of Homeland Security, Transportation Security Administration (DAA-0560-2013-0006, 13 items, 13 temporary items). Occupational safety program records to include safety and environmental incident and inspection reports, investigation records, hazardous waste management records, and related administrative materials.

7. Department of Justice, Bureau of Alcohol, Tobacco, Firearms, and Explosives (DAA-0436-2013-0005, 2 items, 2 temporary items). Master files of an electronic information system used to collect and manage information gathered in the investigation of reported incidents of internal misconduct.

8. Department of the Navy, Naval Nuclear Propulsion Program (DAA-0594-2015-0001, 1 item, 1 temporary item). Records relating to the operation of nuclear powered vessels including reactor logs and related reports.

9. Department of the Navy, U.S. Marine Corps (DAA-0127-2014-0010, 1 item, 1 temporary item). Master files of an electronic information system used to manage and analyze collected intelligence imagery.

10. Department of the Navy, U.S. Marine Corps (DAA-0127-2014-0020, 1 item, 1 temporary item). Master files of an electronic information system used to manage and track the care and treatment of exceptional dependants of Marine Corps personnel.

11. Department of State, Bureau of Energy Resources (DAA-0059-2014-0022, 8 items, 4 temporary items). Records of the Office of the Assistant Secretary including routine correspondence, daily activity reports, bibliographic reference files, and courtesy copies. Proposed for permanent retention are memoranda, reports, telegrams, briefing books, and the calendar of the Assistant Secretary.

12. Broadcasting Board of Governors, Agency-wide (DAA-0517-2013-0002, 8 items, 5 temporary items). Records of the International Broadcasting Bureau, Voice of America, and the Office of Cuba Broadcasting to include broadcast recordings, associated broadcast logs, records used to create programming content, and social media content. Proposed for permanent retention are historically significant broadcast recordings and associated broadcast logs.

13. Central Intelligence Agency, Agency-wide (N1-263-15-1, 1 item, 1 temporary item). Records related to incentive, achievement, and certification awards of employees.

14. Court Services and Offenders Supervision Agency for the District of Columbia, Office of the General Counsel (DAA-0562-2013-0005, 14 items, 13 temporary items). Legal records to include legal opinion reviews related to specific cases, investigations, or ethics violations, and routine claims and litigation files. Proposed for permanent retention are general legal opinion reviews.

15. Environmental Protection Agency, Agency-wide (DAA-0412-2013-0011, 4 items, 4 temporary items). Administrative records related to the day-to-day activities of agency program offices, including reading files, mailing lists, and other short-term transitory records.

Dated: May 7, 2015.
Paul M. Wester, Jr.,
Chief Records Officer for the U.S. Government.

[FR Doc. 2015-11927 Filed 5-15-15; 8:45 am]

BILLING CODE 7515-01-P